DEPARTMENT OF ENERGY

Federal Energy Regulatory Commission

Combined Notice of Filings #1

Take notice that the Commission received the following exempt wholesale generator filings:

Docket Numbers: EG21-195-000.

Applicants: Tulare Solar Center, LLC.

Description: Notice of Self-Certification of Exempt Wholesale Generator Status of Tulare Solar Center, LLC.

Filed Date: 7/13/21.

Accession Number: 20210713-5163.

Comments Due: 5 p.m. ET 8/3/21.

Docket Numbers: EG21-196-000.

Applicants: Boulder Solar III, LLC.

Description: Self-Certification of EG or FC of Boulder Solar III, LLC.

Filed Date: 7/15/21.

Accession Number: 20210715-5098.

Comments Due: 5 p.m. ET 8/5/21.

Docket Numbers: EG21-197-000.

Applicants: Ho'ohana Solar 1, LLC.

Description: Self-Certification of Exempt Wholesale Generator Status of Ho'ohana Solar 1, LLC.

Filed Date: 7/15/21.

Accession Number: 20210715-5107.

Comments Due: 5 p.m. ET 8/5/21.

Take notice that the Commission received the following electric rate filings:

Docket Numbers: ER21-857-002; ER21-856-002.

Applicants: Trent River Solar, LLC, PGR Lessee P, LLC.

Description: Supplement to June 30, 2021 Notice of Non-Material Change in Status of Trent River Solar, LLC, et al.

Filed Date: 7/15/21.

Accession Number: 20210715-5043.

Comments Due: 5 p.m. ET 8/5/21.

Docket Numbers: ER21-1191-008.

Applicants: Southwestern Electric Power Company.

Description: Tariff Amendment: Amended and Restated Minden PSA to be effective 8/1/2018.

Filed Date: 7/14/21.

Accession Number: 20210714-5138.

Comments Due: 5 p.m. ET 8/4/21.

Docket Numbers: ER21-1962-001.

Applicants: Mulberry BESS LLC.

Description: Tariff Amendment: Supplement to Market-Based Rate Application to be effective 5/21/2021.

Filed Date: 7/15/21.

Accession Number: 20210715-5095.

Comments Due: 5 p.m. ET 7/26/21.

Docket Numbers: ER21-2025-000.

Applicants: Tampa Electric Company.

Description: Supplemental Motion of Tampa Electric Company to the May 27, 2021 Request for Waiver by Tampa Electric Company.

Filed Date: 7/12/21.

Accession Number: 20210712-5184.

Comments Due: 5 p.m. ET 7/19/21.

Docket Numbers: ER21-2400-000.

Applicants: Long Island Power Authority.

Description: Joint Request for Limited Waiver of Long Island Power Authority and Long Island Solar Farm.

Filed Date: 7/12/21.

Accession Number: 20210712-5181.

Comments Due: 5 p.m. ET 7/26/21.

Docket Numbers: ER21-2420-000.

Applicants: Midcontinent Independent System Operator, Inc.

Description: § 205(d) Rate Filing: 2021-07-14_SA 3257 ITC Midwest-Louise Solar Project 1st Rev GIA (J523) to be effective 6/29/2021.

Filed Date: 7/14/21.

Accession Number: 20210714-5118.

Comments Due: 5 p.m. ET 8/4/21.

Docket Numbers: ER21-2421-000.

Applicants: RE Garland A LLC.

Description: Initial rate filing: Garland Storage Shared Facilities Agreement Concurrence Filing to be effective 7/15/2021.

Filed Date: 7/14/21.

Accession Number: 20210714-5135.

Comments Due: 5 p.m. ET 8/4/21.

Docket Numbers: ER21-2422-000.

Applicants: SP Garland Solar Storage, LLC.

Description: Initial rate filing: Garland Storage Shared Facilities Agreement Concurrence Filing to be effective 7/15/2021.

Filed Date: 7/14/21.

Accession Number: 20210714-5136.

Comments Due: 5 p.m. ET 8/4/21.

Docket Numbers: ER21-2423-000.

Applicants: Generation Bridge Connecticut Holdings, LLC.

Description: Baseline eTariff Filing: Market-Based Rate Application and Request for Expedited Action to be effective 7/15/2021.

Filed Date: 7/14/21.

Accession Number: 20210714-5143.

Comments Due: 5 p.m. ET 8/4/21.

Docket Numbers: ER21-2424-000.

Applicants: Generation Bridge M&M Holdings, LLC.

Description: Baseline eTariff Filing: Market-Based Rate Application and Request for Expedited Action to be effective 7/15/2021.

Filed Date: 7/14/21.

Accession Number: 20210714-5147.

Comments Due: 5 p.m. ET 8/4/21.

Docket Numbers: ER21-2425-000.

Applicants: Arizona Public Service Company.

Description: § 205(d) Rate Filing: Service Agreement No. 392 to be effective 6/30/2021.

Filed Date: 7/14/21.

Accession Number: 20210714-5153.

Comments Due: 5 p.m. ET 8/4/21.

Docket Numbers: ER21-2426-000.

Applicants: CPRE 1 Lessee, LLC.

Description: Baseline eTariff Filing: App. for MBR Authority, Request for Asso. Waivers & Auth. to make Affiliate Sales to be effective 9/13/2021.

Filed Date: 7/14/21.

Accession Number: 20210714-5156.

Comments Due: 5 p.m. ET 8/4/21.

Docket Numbers: ER21-2427-000.

Applicants: PJM Interconnection, L.L.C.

Description: § 205(d) Rate Filing: Original ISA, Service Agreement No. 6108; Queue No. AE1-183 to be effective 6/17/2021.

Filed Date: 7/15/21.

Accession Number: 20210715-5016.

Comments Due: 5 p.m. ET 8/5/21.

Docket Numbers: ER21-2428-000.

Applicants: Niagara Mohawk Power Corporation, New York Independent System Operator, Inc.

Description: § 205(d) Rate Filing: 205: SGIA between Niagara Mohawk and Capital Hill Solar, SA No. 2641 to be effective 6/15/2021.

Filed Date: 7/15/21.

Accession Number: 20210715-5032.

Comments Due: 5 p.m. ET 8/5/21.

Docket Numbers: ER21-2429-000.

Applicants: Tulare Solar Center, LLC.

Description: Baseline eTariff Filing: Tulare Solar Center, LLC MBR Tariff to be effective 7/16/2021.

Filed Date: 7/15/21.

Accession Number: 20210715-5048.

Comments Due: 5 p.m. ET 8/5/21.

Docket Numbers: ER21-2430-000.

Applicants: Virginia Electric and Power Company, PJM Interconnection, L.L.C.

Description: § 205(d) Rate Filing: VEPCo submits revised Mutual Operating Agreement No. 2032 to be effective 6/15/2021.

Filed Date: 7/15/21.

Accession Number: 20210715-5051.

Comments Due: 5 p.m. ET 8/5/21.

Docket Numbers: ER21-2431-000.

Applicants: Southern California Edison Company.

Description: § 205(d) Rate Filing: LGIA Desert Quartzite, LLC—Quartzite Solar 11 SA No. 270, TOT872 to be effective 7/16/2021.

Filed Date: 7/15/21.

Accession Number: 20210715-5054.

Comments Due: 5 p.m. ET 8/5/21.

Docket Numbers: ER21-2432-000.

Applicants: San Diego Gas & Electric Company.

Description: § 205(d) Rate Filing: Captiva Energy Storage E&P Agreement to be effective 7/16/2021.

Filed Date: 7/15/21.

Accession Number: 20210715-5067.

Comments Due: 5 p.m. ET 8/5/21.

Docket Numbers: ER21-2433-000.

Applicants: Florida Power & Light Company.

Description: Tariff Cancellation: FPL Cancellation of eTariff Records for Attachments H-1 and H-2 of the OATT to be effective 4/1/2020.

Filed Date: 7/15/21.

Accession Number: 20210715-5068.

Comments Due: 5 p.m. ET 8/5/21.

Docket Numbers: ER21-2434-000.

Applicants: PacifiCorp.

Description: § 205(d) Rate Filing: BPA NITSA—(SE Idaho Area) Rev 6 to be effective 7/1/2021.

Filed Date: 7/15/21.

Accession Number: 20210715-5074.

Comments Due: 5 p.m. ET 8/5/21.

Docket Numbers: ER21-2435-000.

Applicants: WPS Power Development, LLC.

Description: Tariff Cancellation: Cancellation of Market-Based Rate Tariff to be effective 9/14/2021.

Filed Date: 7/15/21.

Accession Number: 20210715-5102.

Comments Due: 5 p.m. ET 8/5/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 15, 2021.
Debbie-Anne A. Reese,
Deputy Secretary.

[FR Doc. 2021-15513 Filed 7-20-21; 8:45 am]

BILLING CODE 6717-01-P